DEPARTMENT OF LABOR

Employment and Training Administration

[TA-W-54,735]

Trent Tube, a Division of Crucible Materials Corp., Carrollton, GA; Notice of Termination of Investigation

Pursuant to section 221 of the Trade Act of 1974, as amended, an investigation was initiated on April 16, 2004, in response to a worker petition filed by the company on behalf of workers at Trent Tube, a division of Crucible Materials Corp., Carrollton, Georgia.

The petitioner has requested that the petition be withdrawn. Consequently, the investigation has been terminated.

Signed at Washington, DC, this 28th day of April, 2004.
Linda G. Poole,
Certifying Officer, Division of Trade Adjustment Assistance.

[FR Doc. 04-12638 Filed 6-3-04; 8:45 am]

BILLING CODE 4510-30-P